DEPARTMENT OF COMMERCE

National Oceanic and Atmospheric Administration

50 CFR Part 635

[Docket No. 0612242866-8888-03]

RIN 0648-AU89

Atlantic Highly Migratory Species (HMS); Atlantic Shark Management Measures

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing Amendment 2 to the 2006 Consolidated Atlantic Highly Migratory Species (HMS) Fishery Management Plan (FMP). This final rule sets forth the effective date of the collection-of-information requirements.

DATES: The collection-of-information requirements in § 635.5 will be effective on September 15, 2008.

ADDRESSES: Written comments regarding the burden-hour estimates or other aspects of the collection-of-information requirements contained in this final rule may be submitted to David Rostker, OMB, by e-mail to David_Rostker@omb.eop.gov, or fax to 202-395-7285.

FOR FURTHER INFORMATION CONTACT: Jackie Wilson, NMFS HMS Management Division, 240-338-3936.

SUPPLEMENTARY INFORMATION:

Electronic Access

This Federal Register document is also accessible on the internet at: www.gpoaccess.gov/fr/index.html.

Background

A final rule for Amendment 2 to the 2006 Consolidated Atlantic HMS FMP was published in the Federal Register on June 24, 2008 (73 FR 35778), and a correction was published on July 15, 2008 (73 FR 40658). That final rule became effective on July 24, 2008. The OMB approval of the collection-of-information requirements for § 635.5 had not been received by the date the final rule was submitted to the Office of the Federal Register for publication. Because OMB approval of the collection-of-information requirements had not been received by NMFS by the date the final rule was published, the effective date of the associated recordkeeping and reporting requirements in that rule was delayed.

OMB approved the collection-of-information requirements contained in the rule on June 23, 2008. Accordingly, this final rule makes effective the collection-of-information requirements at § 635.5 contained in the final rule published on June 24, 2008.

Classification

This final rule has been determined to be not significant for purposes of Executive Order 12866.tanding any other provision of the law, no person is required to respond to, and no person shall be subject to penalty for failure to comply with, a collection-of-information requirement subject to the requirements of the Paperwork Reduction Act (PRA), unless that collection-of-information displays a currently valid OMB control number.

This final rule contains revisions to collection-of- information requirements subject to the PRA under OMB Control Number 0648-0040. NMFS sought approval regarding the addition of a check box on the HMS dealer form. This check box would allow HMS dealers to note whether or not shark fins were naturally attached to the shark through offloading. NMFS does not expect that the addition of a check box regarding shark fins would add to the reporting burden.

Send comments regarding these burden estimates or any other aspect of this data collection, including suggestions for reducing the burden, to David Rostker at David_Rostker@omb.eop.gov, or fax to 202-395-7285.

Dated: August 11, 2008.
James W. Balsiger
Acting Assistant Administrator for Fisheries, National Marine Fisheries Service.

[FR Doc. E8-18944 Filed 8-14-08; 8:45 am]

BILLING CODE 3510-22-S